FEDERAL COMMUNICATIONS COMMISSION

47 CFR Part 1

[WT Docket No. 12-357; FCC 13-88]

H Block Report and Order

AGENCY: Federal Communications Commission.

ACTION: Final rule; announcement of effective date.

SUMMARY: In this document, the Federal Communications Commission (Commission) announces that the Office of Management and Budget (OMB) has approved, in response to an emergency request, for a period of six months, the information collection on FCC Form 175 implementing new rule section 1.2105(a)(2)(xii) adopted by the Commission in the Service Rules for Advanced Wireless Services H Block—Implementing Section 6401 of the Middle Class Tax Relief and Job Creation Act of 2012 Related to the 1915-1920 MHz and 1995-2000 MHz Bands Report and Order (Report and Order), FCC 13-88. This notice is consistent with the Report and Order, which stated that the rule would become effective upon Commission publication of a document in the Federal Register announcing its approval by OMB.

DATES: The rule amending 47 CFR 1.2105(a)(2)(xii), published at 78 FR 50214, August 16, 2013, is effective November 5, 2013.

FOR FURTHER INFORMATION CONTACT: Cathy Williams, Federal Communications Commission, at (202) 418-2918, or email: Cathy.Williams@fcc.gov.

SUPPLEMENTARY INFORMATION: This document announces that, on September 17, 2013, OMB approved, in response to an emergency request, for a period of six months, a revision to the previously-approved information collection on FCC Form 175 to implement new section 1.2105(a)(2)(xii) of the Commission's rules, 47 CFR 1.2105(a)(2)(xii), adopted in the Report and Order, FCC 13-88, 78 FR 50214, August 16, 2013. The OMB Control Number is 3060-0600. The Commission publishes this notice as an announcement of the effective date of § 1.2105(a)(2)(xii).

Synopsis

As required by the Paperwork Reduction Act of 1995 (44 U.S.C. 3507), the Commission is notifying the public that it received OMB approval on September 17, 2013, for the revised information collection required by a modification to 47 CFR 1.2105 (a)(2).

Under 5 CFR 1320, an agency may not conduct or sponsor a collection of information unless it displays a current, valid OMB Control Number.

No person shall be subject to any penalty for failing to comply with a collection of information subject to the Paperwork Reduction Act that does not display a current, valid OMB Control Number. The OMB Control Number is 3060-0600. The foregoing notice is required by the Paperwork Reduction Act of 1995, Public Law 104-13, October 1, 1995, and 44 U.S.C. 3507.

The total annual reporting burdens and costs for the respondents are as follows:

OMB Control Number: 3060-0600.

OMB Approval Date: September 17, 2013.

OMB Expiration Date: March 14, 2014.

Title: Application to Participate in an FCC Auction, FCC Form 175.

Form Number: FCC Form 175.

Respondents: Business or other for-profit entities; not-for-profit institutions; State, Local or Tribal Governments.

Number of Respondents and Responses: 500 per year (estimated average for 3 years for all respondents under the previously-approved collection on FCC Form 175), with an estimated 350 of such respondents required to respond to the revised collection.

Estimated Time per Response: 1.5 hours.

Frequency of Response: On occasion.

Obligation to Respond: Required to obtain or retain benefits.

Total Annual Burden: 750 hours.

Total Annual Cost: None.

Nature and Extent of Confidentiality: The information to be collected will be made available for public inspection and the Commission is not requesting that respondents submit confidential information on FCC Form 175. However, to the extent that a respondent seeks to have certain information collected on FCC Form 175 withheld from public inspection, the respondent may request materials or information submitted to the Commission be given confidential treatment under 47 CFR 0.459 of the Commission's rules.

Needs and Uses: The FCC Form 175 is used by the public to apply to participate in competitive bidding (auctions) for Commission licenses and permits. The information collected on FCC Form 175 is used by the Commission to determine if an applicant is legally, technically, and financially qualified to participate in a Commission auction. Commission staff reviews the information collected on FCC Form 175 for a particular auction as part of the pre-auction process, prior to the auction being held, to determine whether each applicant satisfies the Commission's requirements to participate in the auction and, if applicable, is eligible for the status as the particular type of auction participant it requested. The Commission has revised the information collection on FCC Form 175 to add an additional certification required by new section 1.2105(a)(2)(xii) of the Commission's rules, 47 CFR 1.2105(a)(2)(xii), which was adopted by the Commission in the Report and Order to implement Section 6004 of the Middle Class Tax Relief and Job Creation Act of 2012, Public Law 112-96, sec. 6004, 125 Stat. 156, 222-223, codified at 47 U.S.C. 1404 (2012) (2012 Spectrum Act). New section 1.2105(a)(2)(xii) requires a party seeking to participate in any auction conducted pursuant to the 2012 Spectrum Act to certify in its application, under penalty of perjury, that the applicant and all of the related individuals and entities required to be disclosed on its application are not person(s) who have been, for reasons of national security, barred by any agency of the Federal Government from bidding on a contract, participating in an auction, or receiving a grant and thus statutorily prohibited from participating in such a Commission auction. The revised collection will enable the Commission to comply with Section 6004 and determine whether an applicant's participation in an auction conducted pursuant to the 2012 Spectrum Act is consistent with Section 6004.

Federal Communications Commission.
Marlene H. Dortch,
Secretary.

[FR Doc. 2013-26576 Filed 11-4-13; 8:45 am]

BILLING CODE 6712-01-P